DEPARTMENT OF HOMELAND SECURITY

Coast Guard

33 CFR Part 100

[Docket No. USCG-2012-1094]

Special Local Regulation; Annual Marine Events on the Colorado River, Between Davis Dam (Bullhead City, AZ) and Headgate Dam (Parker, AZ) Within the San Diego Captain of the Port Zone

AGENCY: Coast Guard, DHS.

ACTION: Notice of enforcement of regulation.

SUMMARY: The Coast Guard will enforce the Parker International Water Ski Race Special Local Regulation located upon the Colorado River from 8 a.m. through 5 p.m. on March 9 and March 10, 2013. The event will cover an area beginning at the Blue Water Marina in Parker, AZ, and extending approximately 10 miles to La Paz County Park. This action is necessary provide for the safety of the participants, crew, spectators, sponsor vessels of the race, and general users of the waterway. During the enforcement period, no spectators shall anchor, block, loiter in, or impede the through transit of participants or official patrol vessels in the regulated area during the effective dates and times, unless cleared for such entry by or through an official patrol vessel.

DATES: The regulations in 33 CFR 100.1102 will be enforced from 8 a.m. through 5 p.m. on March 9 and March 10, 2013.

FOR FURTHER INFORMATION CONTACT: If you have questions on this notice, call or email Bryan Gollogly, Waterways Management, U.S. Coast Guard Sector San Diego Coast Guard; telephone (619)-278-7656, email D11-PF-MarineEventsSanDiego@uscg.mil.

SUPPLEMENTARY INFORMATION: The Coast Guard will enforce the Special Local Regulation for the Parker International Water Ski Race in 33 CFR 100.1102 from 8 a.m. through 5 p.m. on March 9 through March 10, 2013.

Under the provisions of 33 CFR 100.1102, a vessel may not enter the regulated area, unless it receives permission from the COTP. Spectator vessels may safely transit outside the regulated area but may not anchor, block, loiter in, or impede the transit of ship parade participants or official patrol vessels. The Coast Guard may be assisted by other Federal, State, or local law enforcement agencies in enforcing this regulation.

This notice is issued under authority of 33 CFR 100.1102 and 5 U.S.C. 552 (a). In addition to this notice in the Federal Register, the Coast Guard will provide the maritime community with extensive advance notification of this enforcement period via the Local Notice to Mariners. If the COTP or his designated representative determines that the regulated area need not be enforced for the full duration stated in this notice, he or she may use a Broadcast Notice to Mariners to grant general permission to enter the regulated area.

Dated: February 12, 2013.
S.M. Mahoney,
Captain, U.S. Coast Guard, Captain of the Port San Diego.

[FR Doc. 2013-04730 Filed 2-28-13; 8:45 am]

BILLING CODE 9110-04-P